DEPARTMENT OF THE INTERIOR

Bureau of Land Management

[LLNM915000L14200000.BJ0000]

Notice of Filing of Plats of Survey, New Mexico

AGENCY: Bureau of Land Management, Interior.

ACTION: Notice of filing of plats of survey.

SUMMARY: The plats of survey described below are scheduled to be officially filed in the New Mexico State Office, Bureau of Land Management (BLM), Santa Fe, New Mexico, thirty (30) calendar days from the date of this publication.

FOR FURTHER INFORMATION CONTACT: These plats will be available for inspection in the New Mexico State Office, Bureau of Land Management, 301 Dinosaur Trail, Santa Fe, New Mexico. Copies may be obtained from this office upon payment. Contact Marcella Montoya at 505-954-2097, or by e-mail at Marcella_Montoya@nm.blm.gov, for assistance.

SUPPLEMENTARY INFORMATION:

New Mexico Principal Meridian, New Mexico (NM)

The plat, in four sheets, representing the dependent resurvey and survey in Township 13 North, Range 4 East, of the New Mexico Principal Meridian, accepted March 21, 2010, for Group 1094 NM.

The plat representing the dependent resurvey and survey in Township 29 North, Range 11 West, of the New Mexico Principal Meridian, accepted April 16, 2010, for Group 1101 NM.

The plat, in two sheets, representing the dependent resurvey and survey in Township 25 North, Range 10 West, of the New Mexico Principal Meridian, accepted April 13, 2010, for Group 1085 NM.

The plat, representing the dependent resurvey and survey, in Township 3 North, Range 7 West, of the New Mexico Principal Meridian, accepted April 20, 2010, for Group 1089 NM.

Indian Meridian, Oklahoma (OK)

The plat, in two sheets, representing the dependent resurvey and survey in Township 19 North, Range 8 East, of the Indian Meridian, accepted October 13, 2009, for Group 157 OK.

The plat representing the dependent resurvey and survey in Township 28 North, Range 23 East, of the Indian Meridian, accepted March 18, 2010, for Group 183 OK.

The plat representing the dependent resurvey and survey in Township 19 North, Range 22 East, of the Indian Meridian, accepted April 28, 2010, for Group 178 OK.

The plat, in eighteen sheets, representing the dependent resurvey and survey in Township 10 North, Range 25 East, of the Indian Meridian, accepted April 30, 2010, for Group 61 OK.

Polk County, Texas (TX)

The plat representing the dependent resurvey and survey of the Alabama-Coushatta Indian Reservation, accepted April 8, 2010, for Group 5 TX.

If a protest against a survey, as shown on any of the above plats, is received prior to the date of official filing, the filing will be stayed pending consideration of the protest. A plat will not be officially filed until the day after all protests have been dismissed and become final or appeals from the dismissal affirmed.

A person or party who wishes to protest against any of these surveys must file a written protest with the New Mexico State Director, Bureau of Land Management, stating that they wish to protest.

A statement of reasons for a protest may be filed with the notice of protest to the State Director or the statement of reasons must be filed with the State Director within thirty (30) days after the protest is filed.

Robert A. Casias,
Chief, Branch of Cadastral, Survey/GeoSciences.

[FR Doc. 2010-12672 Filed 5-25-10; 8:45 am]

BILLING CODE 4310-FB-P